SOCIAL SECURITY ADMINISTRATION

Statement of Organization, Functions and Delegations of Authority

This statement amends Part S of the Statement of the Organization, Functions and Delegations of Authority, which covers the Social Security Administration (SSA). Notice is hereby given that both the Information Technology Systems Review Staff (S1J-2) and the Office of Information Systems Security (S1NG) in the Office of the Deputy Commissioner Finance, Assessment and Management (S1) are abolished. The policy functions of both this staff and this office are transferred to the new Office of the Chief Information Officer. The operational program management responsibility for IT systems security is consolidated in the new Office of Systems Security Operations Management under the Deputy Commissioner Finance, Assessment and Management's Office of Financial Policy and Operations (S1N). The new material and changes are as follows:

Section S1.00 The Office of the Deputy Commissioner Finance, Assessment Management—(Mission)

Replace with the following:

The Office of the Deputy Commissioner Finance, Assessment and Management (ODCFAM) directs the administration of comprehensive SSA management programs including budget, acquisition and grants, facilities management and publications and logistics. The Office directs the development of Agency policies and procedures as well as the management of the Agency financial management systems. It directs the evaluation of programs operations quality and the management of Agency quality assurance, management integrity and the oversight of SSA's matching operations.

Section S1.10 The Office of the Deputy Commissioner Finance, Assessment Management —(Organization)

Delete C.2. The Information Technology Systems review Staff (S1J-2).

Re-number C.3. to C.2.

Section S1N.10 The Office of Financial Policy and Operations—(Organization)

Delete G. in its entirety

Add

G. The Office of Systems Security Operations Management

Section S1N.20 Office of Financial Policy and Operations—(Functions)

Delete G. in its entirety

Add

G. The Office of Systems Security Operations Management (OSSOM) directs, coordinates, and manages SSA's information systems security programs. This includes the development of SSA's security program requirements and procedures, the implementation of governing directives in the area of systems security, the administration of the Agency access control program, and managing an onsite systems review and a comprehensive security compliance and monitoring program. OSSOM provides educational training and awareness programs to management and employees on systems security operational policies, procedures, and requirements; serves as the operational focal point for day-to-day contact with the Office of Inspector General on matters of fraud, waste and abuse; and provides direction to the Agency's systems security officers. OSSOM is also responsible for implementing security requirements and executing safeguards for SSA's state information exchange program.

Dated: July 1, 2002.
Jo Anne B. Barnhart,
Commissioner.

[FR Doc. 02-17383 Filed 7-10-02; 8:45 am]

BILLING CODE 4191-02-P